DEPARTMENT OF THE INTERIOR

Bureau of Land Management

[ES-960-1430-ET; WIES-051517, WIES-011233, WIES-050198]

Public Land Order No. 7681; Revocation of the Withdrawal Established by Executive Orders Dated December 11, 1848 and May 28, 1858; Withdrawal and Transfer of Jurisdiction; Wisconsin

AGENCY: Bureau of Land Management, Interior.

ACTION: Public Land Order.

SUMMARY: This order revokes two withdrawals established by Executive Orders in their entirety as to approximately 328.70 acres of public lands withdrawn from surface entry and reserved for use by the United States Coast Guard for Plum and Pilot Island Light Stations in Door County, Wisconsin. This order also transfers administrative jurisdiction of the lands from the United States Coast Guard to the United States Fish and Wildlife Service, and withdraws the lands from surface entry for a period of 50 years for inclusion in the Green Bay National Wildlife Refuge.

DATES: Effective Date: October 17, 2007.

FOR FURTHER INFORMATION CONTACT: Ida Doup, BLM—Eastern States, 7450 Boston Boulevard, Springfield, Virginia 22153, 703-440-1541.

SUPPLEMENTARY INFORMATION: The reservation is no longer needed by the United States Coast Guard for lighthouse purposes. Administrative jurisdiction is being transferred to the United States Fish and Wildlife Service to protect native and migratory bird habitat and endangered species habitat within the Great Lakes Basin ecosystem.

Order

By virtue of the authority vested in the Secretary of the Interior by Section 204 of the Federal Land Policy and Management Act of 1976, 43 U.S.C. 1714 (2000), it is ordered as follows:

1. The withdrawals established by Executive Orders dated December 11, 1848 and May 28, 1858, which withdrew approximately 328.70 acres of public lands known as Plum and Pilot Islands, from surface entry and reserved them for use by the United States Coast Guard for lighthouse purposes, are hereby revoked in their entirety as to the following described lands:

Fourth Principal Meridian

Plum Island (325 Acres)

T. 33 N., R. 29 E.,

Sec. 26, lots 1 and 2;

Sec. 27, lots 1, 2, and 3.

Pilot Island (3.7 Acres)

T. 33 N., R. 29 E.,

Sec. 1, NE¼NW¼.

The areas described aggregate approximately 328.70 acres in Door County.

2. Subject to valid existing rights, the lands described in Paragraph 1 are hereby withdrawn from settlement, sale, location or entry under the general land laws, but not the mineral leasing laws, and administrative jurisdiction is transferred from the United States Coast Guard to the United States Fish and Wildlife Service to be managed as part of the National Wildlife Refuge System and shall thereafter be subject to all laws and regulations applicable to a wildlife refuge.

3. The United States Coast Guard and its officers, agents, employees, contractors, and subcontractors, will have the unrestricted right of access to enter the land described in this order for the purpose of maintaining the aid to navigation and associated equipment, making any changes necessary for navigational purposes, and preserving an Arc of Visibility. The United States Fish and Wildlife Service may not interfere or allow interference with any navigational aid in use on the land without written permission from the United States Coast Guard.

4. The transfer of jurisdiction for the lands described in this order is subject to the conditions and limitations of case closure for Plum and Pilot Islands as determined by the Wisconsin Department of Natural Resources in accordance with Wisconsin Administrative Code section NR 726.05, and as specified in the Wisconsin Department of Natural Resources site closure letters for Plum Island and Pilot Island dated August 30, 2006.

5. This withdrawal will expire 50 years from the effective date of this order unless, pursuant to Section 204(f) of the Federal Land Policy and Management Act of 1976, 43 U.S.C. 1714(f) (2000), the Secretary determines that the withdrawal shall be extended.

Dated: September 28, 2007.
C. Stephen Allred,
Assistant Secretary—Land and Minerals Management.

[FR Doc. E7-20476 Filed 10-16-07; 8:45 am]

BILLING CODE 4310-55-P